DEPARTMENT OF COMMERCE

Submission for OMB Review; Comment Request

DOC has submitted to the Office of Management and Budget (OMB) for clearance the following proposal for collection of information under the provisions of the Paperwork Reduction Act (44 U.S.C. chapter 35).

AGENCY: Census Bureau.

Title: Current Population Survey, Annual Social and Economic Supplement—2004.

Form Number(s): CPS-580, CPS-580(L)SP, CPS-676, CPS-676(SP).

Agency Approval Number: 0607-0354.

Type of Request: Revision of a currently approved collection.

Burden: 32,500 hours.

Number of Respondents: 78,000.

Avg Hours Per Response: 25 minutes.

Needs and Uses: The purpose of this request for review is to obtain clearance for the Annual Social and Economic Supplement (ASEC), formerly known as the Annual Demographic Survey (ADS), which we will conduct in conjunction with the February, March, and April 2004 Current Population Survey (CPS). Congressional passage of the State Children's Health Insurance Program, or Title XXI, led to a mandate from Congress, in 1999, that the sample size for the CPS, and specifically the Annual Social and Economic Supplement (ASEC), be increased to a level whereby more reliable estimates can be derived for the number of individuals participating in this program at the state level. By administrating the ASEC in February, March, and April, rather than only in March as in the past, we have been able to achieve this goal. The Census Bureau, the Bureau of Labor Statistics (BLS), and the Department of Health and Human Services (HHS) sponsor this supplement.

The ASEC can be divided into five logical series of questions as follows: Work Experience; Personal Income and Noncash Benefits; Household Noncash Benefits; Welfare Reform Items; and Migration.

ASEC data are used by social planners, economists, Government officials, and market researchers to gauge the social and economic well-being of the Nation as a whole, and selected population groups of interest.

Affected Public: Individuals or households.

Frequency: Annually.

Respondent's Obligation: Voluntary.

Legal Authority: Title 13 U.S.C., Section 182 and Title 29 U.S.C., Sections 1-9.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or email (susan_schechter@omb.eop.gov).

Dated: October 8, 2003.
Madeleine Clayton,
Management Analyst, Office of the Chief Information Officer.

[FR Doc. 03-26016 Filed 10-14-03; 8:45 am]

BILLING CODE 3510-07-P